SURFACE TRANSPORTATION BOARD

[Docket No. FD 35283 (Sub-No. 1)]

The Indiana Rail Road Company—Amended Trackage Rights Exemption—CSX Transportation, Inc.

Pursuant to a written Supplemental Agreement, dated February 16, 2017, The Indiana Rail Road Company (INRD) seeks to acquire approximately 30.6 miles of limited and amended overhead trackage rights from CSX Transportation, Inc. (CSXT),¹ between the INRD-CSXT connection near INRD's Senate Avenue Yard and CSXT's Avon Yard in Indianapolis, Ind. INRD presently holds overhead trackage rights over the subject lines, which it can utilize in conjunction with specified categories of traffic.² INRD states that the proposed transaction would amend those existing trackage rights to allow INRD to handle interchange traffic between CSXT and Louisville & Indiana Railroad Company in intermediate switching service.

¹ INRD is indirectly controlled by CSXT and operates as an independent Class II rail carrier.

² Pursuant to an August 22, 1996 trackage rights agreement and a September 1, 2009 Supplemental Agreement between INRD and CSXT, INRD holds trackage rights over several CSXT line segments in the Indianapolis terminal for the purpose of handling certain limited categories of overhead traffic. See Ind. R.R.—Trackage Rights Exemption—CSX Transp., Inc., FD 35283 (STB served Sept. 3, 2009); Ind. R.R.—Trackage Rights Exemption—Consol. Rail Corp., FD 33380 (STB served Apr. 30, 1997).

The additional restricted overhead trackage rights to be acquired are over the following CSXT line segments: (1) Between the INRD-CSXT connection south of INRD's Senate Avenue Yard at milepost QIB 5.3 and the Hamilton Connection at milepost QIB 9.0, a distance of approximately 3.7 miles; (2) over CSXT's Hamilton Connection between milepost QIB 9.0 and milepost BD 122.0, a distance of approximately 0.5 miles; (3) between milepost BD 122.0 and milepost QS 12.5 at CP AN near the west end of Avon Yard, a distance of approximately 14.4 miles, with two milepost equations where milepost BD 123.7 = milepost QI 283.7 and milepost QI 283.9 = milepost QS 0.0; (4) between milepost QSC 0.7 at CP IJ and milepost QSC 8.6 at CP South Hunt, a distance of approximately 7.9 miles, connecting at both ends with Line Segment #3; (5) between milepost QSL 1.7 at CP Dale and milepost QSL 0.0 at CP IU, a distance of approximately 1.7 miles, connecting Line Segment #1 to Line Segment #3; and (6) between milepost QSS 106.9 at Belt Crossing and milepost QSS 109.3 at CP IU, a distance of approximately 2.4 miles, connecting Line Segment #1 to Line Segment #3.

The earliest this transaction may be consummated is May 13, 2017, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by May 5, 2017 (at least seven days before the exemption becomes effective).

An original and 10 copies of all pleadings, referring to Docket No. 35283 (Sub-No. 1), must be filed with the Surface Transportation Board, 395 E Street SW., Washington, DC 20423-0001. In addition, a copy of each pleading must be served on Thomas J. Litwiler, Fletcher & Sippel LLC, 29 North Wacker Drive, Suite 920, Chicago, IL 60606-2832.

Board decisions and notices are available on our Web site at “WWW.STB.GOV.”

Decided: April 25, 2017.
By the Board, Rachel D. Campbell, Director, Office of Proceedings.
Raina S. Contee,
Clearance Clerk.

[FR Doc. 2017-08632 Filed 4-27-17; 8:45 am]

BILLING CODE 4915-01-P